DEPARTMENT OF THE INTERIOR

Fish and Wildlife Service

Notice of Issuance of Permit for Marine Mammals

On August 7, 2001, a notice was published in the Federal Register (66 FR 41260) that an application had been filed with the Fish and Wildlife Service by Terri M. Williams, University of California, Santa Cruz, California, for a permit (PRT-045447) to take Southern sea otters (Enhydra lutris nereis) for the purpose of scientific research.

Notice is hereby given that on January 8, 2002, a permit (MA045447-0) was issued by the Fish and Wildlife Service, as authorized by the provisions of the Marine Mammal Protection Act of 1972, as amended (16 U.S.C. 1361 et seq.), and subject to certain conditions set forth therein.

Documents and other information submitted for these applications are available for review by any party who submits a written request to the U.S. Fish and Wildlife Service, Division of Management Authority, 4401 North Fairfax Drive, Room 700, Arlington, Virginia 22203, telephone (703) 358-2104 or fax (703) 358-2281.

Dated: January 11, 2002.
Michael S. Moore,
Senior Permit Biologist, Branch of Permits, Division of Management Authority.

[FR Doc. 02-1879 Filed 1-24-02; 8:45 am]

BILLING CODE 4310-55-P